CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments on its proposed “Application for the President's Higher Education Community Service Honor Roll” which will involve the collection of information from institutions of higher education concerning their community service-related activities. This information will provide the basis for a national honor roll and awards program intended to promote awareness of higher education community service efforts and to inspire expanded and more effective service efforts. In support of the Universities Rebuilding America Program (discussed below), this application and data collection include sections on the service activities of institutions of higher education, their students, faculty and staff, in response to the significant devastation caused by this last year's Atlantic and Gulf hurricanes. Copies of the information collection request can be obtained by contacting the office listed in the ADDRESSES section of this notice.

DATES: Written comments must be submitted to the individual and office listed in the ADDRESSES section by March 6, 2006.

ADDRESSES: You may submit comments, identified by the title of the information collection activity, by any of the following methods:

(1) By mail sent to: Corporation for National and Community Service, Learn and Serve America; Attention: Amy Cohen, Director, Room 9603; 1201 New York Avenue, NW., Washington, DC 20525. Please note that because we are experiencing significant delays in receiving U.S. Mail, you may wish to consider alternative mail services.

(2) By hand delivery or by courier to: the Corporation's mailroom at Room 8100 at the mail address given in paragraph (1) above, between 9 a.m. and 4 p.m. Monday through Friday, except Federal holidays.

(3) By fax to: (202) 606-3477, Attention: Amy Cohen.

(4) Electronically through the Corporation's e-mail address system: acohen@cns.gov.

FOR FURTHER INFORMATION CONTACT: Amy Cohen, (202) 606-6927, or by e-mail at acohen@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are expected to respond, including the use of appropriate automated, electronic, mechanical, or other technological collection techniques or other forms of information technology (e.g., permitting electronic submissions of responses).

Background: The Corporation is the lead Federal agency for the coordination and support of voluntary national and community service by citizens and non-profit agencies.

Recognizing that community service and civic engagement are among the historic missions of most colleges and universities, the Corporation's Board of Directors recently identified Strategic Plan targets that include significant increases: in the number of college students performing community service, in the use of service-learning in higher education, and, in particular, in the number of students providing tutoring and other services to youth from disadvantaged circumstances designed to promote high school completion and college access. The President's Higher Education Community Service Honor Roll and Awards program will support these Strategic Plan efforts.

On November 1, 2005, the Secretary of Housing and Urban Development, Alphonso Jackson, and the Chief Executive Officer of the Corporation, David Eisner, announced the Universities Rebuilding America Partnership (URAP), an initiative offering funding and other resources to empower college and university students, faculty, and staff to lend their skills in rebuilding the Gulf Coast in response to the devastation caused by the hurricanes of 2005. As part of this initiative, the Corporation and the Department are creating a URAP Honor Roll and Awards Program to recognize higher education communities for their contributions to the recovery and rebuilding efforts.

Current Action: This annual application/ information collection from higher education institutions will provide information about student, faculty, staff, and institutional community service and civic engagement activities, including those in response to the recent hurricane emergencies. The selection of colleges and universities for recognition under the URAP Honor Roll and Awards program, as well as under the broader President's Higher Education Community Service Honor Roll and Award program, will be based on information provided in this application and information collection. The initial deadline for institutions to submit applications for these programs is June 30, 2006. It is expected that a similar application/ information collection activity will be repeated annually, with a similar annual deadline.

Information collected from applicant higher education institutions will include: descriptions of specific student, staff, and faculty community service projects; data on the scope and impacts of service projects; estimates of the number of enrolled students participating in community service activities—both overall and in response to the hurricane-related disruptions of 2005; and information on institutional supports for service such as academic service-learning opportunities, community service coordination offices, and scholarships and other benefits in recognition of student service.

Type of Review: New.

Agency: Corporation for National and Community Service.

Title: Application for the President's Higher Education Community Service Honor Roll.

OMB Number: None.

Agency Number: None.

Affected Public: U.S. degree-granting colleges and universities.

Total Respondents: 4,236 higher education institutions.

Frequency: Annual.

Average Time Per Response: 1 hour.

Estimated Total Burden Hours: 4,236 hours.

Total Burden Cost (capital/startup): None.

Total Burden Cost (operating/maintenance): None.

Comments submitted in response to this notice will be summarized and/or included in the request for Office of Management and Budget approval of the information collection request; they will also become a matter of public record.

Dated: December 30, 2005.
Elson Nash,
Associate Director for Project Management, Learn and Serve America.

[FR Doc. E5-8312 Filed 1-4-06; 8:45 am]

BILLING CODE 6050-$$-P